DEPARTMENT OF COMMERCE

National Oceanic and Atmospheric Administration

[I.D. 021704A]

Marine Mammals; File No. 1049-1718

AGENCY: National Marine Fisheries Service, National Oceanic and Atmospheric Administration (NOAA), Commerce.

ACTION: Receipt of amendment to application for a new permit.

SUMMARY: Notice is hereby given that Kate M. Wynne, University of Alaska Fairbanks, School of Fisheries and Ocean Sciences, 118 Trident Way, Kodiak, Alaska 99615 has submitted an amendment to a permit application to add a request for takes of humpback whales (Megaptera novaeangliae) and fin whales (Balaenoptera physalis) by attachment of scientific instruments for the purposes of scientific research.

DATES: Comments or requests for a public hearing must be received at the appropriate address or facsimilie (fax) number (see ADDRESSES) on or before April 8, 2004.

ADDRESSES: Written comments or requests for a public hearing on these applications should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by e-mail. The mailbox address for providing e-mail comments is NMFS.Pr1Comments@noaa.gov. Include in the subject line of the e-mail comment the following document identifier: File No. 1049-1718.

Comments may be submitted by facsimile at (301)713-0376, provided the facsimile is confirmed by hard copy submitted by mail and postmarked no later than the closing date of the comment period.

The permit application and related documents are available for review upon written request or by appointment in the following office(s):

Permits, Conservation and Education Division, Office of Protected Resources, NMFS, 1315 East-West Highway, Room 13705, Silver Spring, MD 20910, (301) 713-2289; and Alaska Region, NMFS, P.O. Box 21668, Juneau, AK 99802-1668, (907) 586-7221.

FOR FURTHER INFORMATION CONTACT: Jill Lewandowski or Jennifer Jefferies at (301) 713-2289.

SUPPLEMENTARY INFORMATION: The subject permit is requested under the authority of the Marine Mammal Protection Act of 1972, as amended (MMPA; 16 U.S.C. 1361 et seq.), the Regulations Governing the Taking and Importing of Marine Mammals (50 CFR 216), the Endangered Species Act of 1973, as amended (ESA; 16 U.S.C. 1531 et seq.), the regulations governing the taking, importing, and exporting of endangered and threatened species (50 CFR 222-226), and the Fur Seal Act of 1966, as amended (16 U.S.C. 1151 et seq.).

The original permit application (file no. 1049-1718) was published in the Federal Register on July 18, 2003 (68 FR 42689) and requested a five-year scientific research permit to assess life history parameters of humpback whales, killer whales (Orcinus orca), sperm whales (Physeter macrocephalus), fin whales, sei whales (Balaenoptera borealis), minke whales (Balaenoptera acutorostrata), and gray whales (Eschrichtius robustus). Requested takes included photo-identification, behavioral observation, passive acoustic recording, biopsy sampling, incidental harassment, and collection and/or export of dead parts from the following prey species during killer whale predation studies: humpback, gray, minke, sei, fin and sperm whales, harbor porpoise (Phocoena phocoena), Dall's porpoise (Phocoenoides dalli), harbor seals (Phoca vitulina), Pacific white-sided dolphins (Lagenorhynchus obliquidens), Northern fur seals (Callorhinus ursinus), and Steller sea lions (Eumetopias jubatus). All research will take place in Alaskan waters.

The applicant has now amended the application to add a request for 60 annual takes of humpback whales and 60 annual takes of fin whales through the attachment of VHF and TDR tags by suction cup. The applicant has also requested an increase of 270 annual takes by incidental harassment of these two species during tagging activities. In addition, skin cells retained by the suction cup after its release from the whale will be collected for genetic analyses. The newly requested takes are in addition to the takes already requested in the original application and outlined in the paragraph above.

Concurrent with the publication of this notice in the Federal Register, NMFS is forwarding copies of this application to the Marine Mammal Commission and its Committee of Scientific Advisors.

Dated: March 3, 2004.
Stephen L. Leathery,
Chief, Permits, Conservation and Education Division, Office of Protected Resources, National Marine Fisheries Service.

[FR Doc. 04-5292 Filed 3-8-04; 8:45 am]

BILLING CODE 3510-22-S